DEPARTMENT OF TRANSPORTATION

Federal Highway Administration

Environmental Impact Statement, Atchison County, Kansas and Buchanan County, Missouri

AGENCY: Federal Highway Administration (FHWA), DOT.

ACTION: Notice of intent.

SUMMARY: The FHWA is issuing this notice of intent to advise the public that an environmental impact statement will be prepared for a proposed highway project on U.S. Highway 59 from the four-lane section within the City of Atchison in Atchison County, Kansas over the Missouri River to the Intersection with State Route 45 in Buchanan County, Missouri.

FOR FURTHER INFORMATION CONTACT: Kurt C. Dunn, P.E., Vital Few Team Leader, Federal Highway Administration, 3300 Southwest Topeka Boulevard, Suite 1, Topeka, Kansas 66611, Telephone: (785) 267-7281; Warren L. Sick, Assistant Secretary and State Transportation Engineer, Kansas Department of Transportation, 915 Harrison Street, Topeka, Kansas 66612, Telephone: (785) 296-3285.

SUPPLEMENTARY INFORMATION: The FHWA, in cooperation with the Kansas Department of Transportation (KDOT) and the Missouri Department of Transportation (MoDOT), will prepare an environmental impact statement (EIS) on a proposal to improve U.S. Highway 59 in Atchison County, Kansas and Buchanan County, Missouri. The proposed project would involve improvement of the existing U.S. Highway 59 corridor from the city of Atchison, Kansas over the Missouri River to the U.S. 59/State Route 45 Intersection in Buchanan County, Missouri for a distance of about 6.3 kilometers (3.9 miles) in length. The KDOT and MoDOT have coordinated with local officials and other interested parties on the scope of the proposed project.

Improvements to the corridor are considered needed to provide for the existing and projected traffic demands, improve safety, improve access to Atchison, Kansas, promote local and regional economic stability, and to address the deficiencies of the Amelia Earhart Memorial Bridge over the Missouri River. Alternatives under consideration include taking no action and possible roadway alignments that will improve the existing 2-lane highway facility to 4-lanes. Also, the Amelia Earhart Memorial Bridge alternatives being studied include both the removal and rehabilitation of the bridge.

A scoping process has been initiated that involves all appropriate federal, state, and local agencies, consulting parties, private organizations and citizens who have previously expressed or are known to have interest in this proposal. There had been extensive public involvement conducted to date on the project including a public meeting that has resulted in identification of major issues. A public hearing will be held to present the findings of the draft EIS. Public notice will be given of the time and place of the hearing. The draft EIS will be available for public and agency review and comment prior to the public hearing.

To ensure that the full range of issues related to this proposed action are addressed and all major issues are identified in the process, comments and suggestions are invited from all interested and/or potentially affected parties. Comments or questions concerning this proposed action and the EIS should be directed to the FHWA or the KDOT at the addresses provided above.

(Catalog of Federal Domestic Assistance Program Number 20.205, Highway Planning and Construction. The regulations implementing Executive Order 12372 regarding intergovernmental consultation on Federal programs and activities apply to this program.)

Issued on: May 19, 2004.
J. Michael Bowen,
Division Administrator, Kansas Division, Federal Highway Administration, Topeka, Kansas.

[FR Doc. 04-11822 Filed 5-25-04; 8:45 am]

BILLING CODE 4910-22-P